FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011463-009.

Title: East Coast North America to West Coast South America and Caribbean Cooperative Working Agreement.

Parties: Compania Chilena de Navegacion Interoceanica S.A.; Hamburg-Sudamerikanische Dampfschifffahrts-Gesellschaft KG (HSDG); Compania Sud Americana de Vapores S.A. (CSAV); and Norasia Container Lines Limited.

Filing Party: Wayne R. Rohde, Esq.; Cozen O'Connor; 1627 I Street NW., Suite 1100, Washington, DC 20006.

Synopsis: The Amendment would delete CSAV and Norasia as parties to the Agreement and replace them with Hapag-Lloyd, and make corresponding changes in the Agreement where necessary.

Agreement No.: 012193-002.

Title: Siem Car Carriers AS/Compania Sud Americana de Vapores S.A. Space Charter Agreement.

Parties: Siem Car Carriers AS and Compania Sud Americana de Vapores S.A.

Filing Party: Ashley W. Craig Esq.; Venable LLP; 575 Seventh Street NW., Washington, DC 20004.

Synopsis: The Amendment adds Mexico to the geographic scope of the agreement.

Agreement No.: 012319.

Title: MOL/WWL Space Charter Agreement.

Parties: Mitsui O.S.K. Lines, Ltd. and Wallenius Wilhelmsen Logistics AS.

Filing Party: Eric. C. Jeffrey, Esq.; Nixon Peabody LLP; 401 9th Street NW., Suite 900, Washington, DC 20004.

Synopsis: The Agreement authorizes the parties to charter space to/from one another for the transportation of vehicles or other Ro/Ro cargo in the trade between the United States and Europe.

Agreement No.: 012320.

Title: HLAG/CSAV Agreement.

Parties: Hapag-Lloyd AG and Compania Sud Americana De Vapores, S.A.

Filing Party: Wayne R. Rohde, Esq.; Cozen O'Connor, 1627 I Street NW., Washington, DC 20006.

Synopsis: The Agreement would authorize certain on-going arrangements between the Parties that are ancillary to the acquisition of CSAV's containerized ocean liner business by Hapag-Lloyd. More specifically, it would set forth the terms of a non-compete arrangement between the Parties, and authorize the exchange of information and agreement between the parties on matters necessary to complete the efficient transfer of the business.

By Order of the Federal Maritime Commission.
Karen V. Gregory,
Secretary.

[FR Doc. 2015-06202 Filed 3-17-15; 8:45 am]

BILLING CODE 6730-01-P